DEPARTMENT OF TRANSPORTATION

Federal Aviation Administration

14 CFR Part 39

[Docket No. FAA-2020-0812; Project Identifier MCAI-2020-01317-A]

RIN 2120-AA64

Airworthiness Directives; Pilatus Aircraft Ltd. Airplanes

AGENCY: Federal Aviation Administration (FAA), DOT.

ACTION: Notice of proposed rulemaking (NPRM).

SUMMARY: The FAA proposes to adopt a new airworthiness directive (AD) for all Pilatus Aircraft Ltd. (Pilatus) Model PC-24 airplanes. This proposed AD results from mandatory continuing airworthiness information (MCAI) originated by an aviation authority of another country to identify and correct an unsafe condition on an aviation product. The MCAI identifies the unsafe condition as the need to revise certain airworthiness limitations and certification maintenance instructions. The FAA is proposing this AD to address the unsafe condition on these products.

DATES: The FAA must receive comments on this proposed AD by April 26, 2021.

ADDRESSES: You may send comments by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

• For service information identified in this proposed AD, contact Pilatus Aircraft Ltd., Customer Support General Aviation, CH-6371 Stans, Switzerland; phone: +41 848 24 7 365; email: techsupport.ch@pilatus-aircraft.com; website: https://www.pilatus-aircraft.com. You may view this service information at the FAA, Airworthiness Products Section, Technical Innovation Policy Branch, 901 Locust, Kansas City, MO 64106. For information on the availability of this material at the FAA, call (816) 329-4148.

Examining the AD Docket

You may examine the AD docket at https://www.regulations.gov by searching for and locating Docket No. FAA-2020-0812; or in person at Docket Operations between 9 a.m. and 5 p.m., Monday through Friday, except Federal holidays. The AD docket contains this NPRM, any comments received, and other information. The street address for Docket Operations is listed above.

FOR FURTHER INFORMATION CONTACT: Doug Rudolph, Aviation Safety Engineer, FAA, General Aviation & Rotorcraft Section, International Validation Branch, 901 Locust, Room 301, Kansas City, Missouri 64106; phone: (816) 329-4059; fax: (816) 329-4090; email: doug.rudolph@faa.gov.

SUPPLEMENTARY INFORMATION:

Comments Invited

The FAA invites you to send any written relevant data, views, or arguments about this proposal. Send your comments to an address listed under ADDRESSES. Include “Docket Number FAA-2020-0812; Project Identifier MCAI-2020-01317-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this AD. Submissions containing CBI should be sent to Doug Rudolph, Aviation Safety Engineer, FAA, General Aviation & Rotorcraft Section, International Validation Branch, 901 Locust, Room 301, Kansas City, Missouri 64106. Any commentary that the FAA receives which is not specifically designated as CBI will be placed in the public docket for this rulemaking.

Background

The European Union Aviation Safety Agency (EASA), which is the Technical Agent for the Member States of the European Union, has issued EASA AD No. 2020-0202, dated September 22, 2020 (referred to after this as “the MCAI”), to correct an unsafe condition for Pilatus Model PC-24 airplanes. The MCAI states:

The airworthiness limitations and certification maintenance instructions for Pilatus PC-24 aeroplanes, which are approved by EASA, are currently defined and published in Pilatus PC-24 AMM [Aircraft Maintenance Manual] Chapter 04-00-00. These instructions have been identified as mandatory for continued airworthiness.

Failure to accomplish these instructions could result in an unsafe condition.

Previously, EASA issued AD 2020-0074, [dated March 27, 2020,] requiring the actions described in the Pilatus PC-24 AMM Chapter 04-00-00, Document Number 02378 Issue 005 at Revision 14.

Since that AD was issued, Pilatus published the ALS [Airworthiness Limitations section, at Issue 005 Revision 19], which contains the following new and/or more restrictive tasks as specified in Mandatory Structural Inspection Items data module PC24-AA04-20-0000-00A-000A-A Issue 005 Revision 00:

—AL-27-00-025 and AL-27-00-026: Control column sprocket gear assembly, and

—AL-27-00-027: Control wheel column assembly.

In addition, Airworthiness Limitations Description data module PC24-A-A04-00-0000-00A-040A-A Issue 008 Revision 00 includes:

—The new limit of validity following the completion of the Full Scale Fatigue Test, and

—Usage assumptions/conditions for operations on unpaved and grass runaways.

EASA AD No. 2020-0074, dated March 27, 2020, required revising the Airworthiness Limitations section (ALS) to correct an error in the horizontal stabilizer primary trim system secondary power source operational test. The MCAI retains the requirements of EASA AD No. 2020-0074, dated March 27, 2020, which the MCAI supersedes, and requires the additional revisions discussed previously. You may examine the MCAI at https://www.regulations.gov by searching for and locating Docket No. FAA-2020-0812.

Related Service Information Under 1 CFR Part 51

The FAA reviewed Chapter 4, Airworthiness Limitations, of Pilatus PC-24 Aircraft Maintenance Manual, data module PC24-A-A04-00-0000-00A-040A-A, Issue 008, Revision 00, dated May 26, 2020. This service information contains the parent data module and the new limit of validity and updates the usage assumptions and conditions for operations on unpaved and grass runways. This document also contains the revised subsections with revised maintenance actions.

The FAA also reviewed Pilatus PC-24 Aircraft Maintenance Manual Horizontal stabilizer primary trim system secondary power source—Operation test, data module PC24-A-E27-40-0000-01A-320A-A, Issue 007, Revision 00, dated September 25, 2019. This service information contains revised procedures for task number AL-27-40-022 in the CMR.

This service information is reasonably available because the interested parties have access to it through their normal course of business or by the means identified in the ADDRESSES section.

FAA's Determination

This product has been approved by the aviation authority of another country, and is approved for operation in the United States. Pursuant to our bilateral agreement with this State of Design Authority, it has notified us of the unsafe condition described in the MCAI and service information referenced above. The FAA is issuing this NPRM after determining that the unsafe condition described previously is likely to exist or develop on other products of the same type design.

Proposed AD Requirements in This NPRM

This proposed AD would require replacing the revised sections of the ALS described previously into the existing AMM or instructions for continued airworthiness. Updating the entire ALS, including all subsections and referenced data modules, would be acceptable for compliance with this proposed AD. An owner/operator (pilot) may incorporate the ALS revisions, and the owner/operator must enter compliance with the applicable paragraphs of the AD into the aircraft records in accordance with 14 CFR 43.9(a)(1) through (4) and 14 CFR 91.417(a)(2)(v). This is an exception to our standard maintenance regulations.

Costs of Compliance

The FAA estimates that this proposed AD would affect 42 products of U.S. registry. The FAA also estimates that it would take about 1 work-hour per product to comply with the requirements of this proposed AD. The average labor rate is $85 per work-hour.

Based on these figures, the FAA estimates the cost of the proposed AD on U.S. operators would be $3,570 or $85 per product.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Pilatus Aircraft Ltd.: Docket No. FAA-2020-0812; Project Identifier MCAI-2020-01317-A.

(a) Comments Due Date

The FAA must receive comments on this airworthiness directive (AD) by April 26, 2021.

(b) Affected ADs

None.

(c) Applicability

This AD applies to Pilatus Aircraft Ltd. Model PC-24 airplanes, all serial numbers, certificated in any category.

(d) Subject

Joint Aircraft System Component (JASC) Code 2740: Stabilizer Control System.

(e) Reason

This AD was prompted by the need to revise the Airworthiness Limitations section (ALS) of the existing aircraft maintenance manual (AMM) to add new and more restrictive tasks for the control column sprocket gear assembly and control wheel column assembly, to address the new limit of validity and update the usage assumptions and conditions for operations on unpaved and grass runways, and to correct an error in the horizontal stabilizer primary trim system secondary power source operational test. The FAA is issuing this AD to prevent reduction in the structural integrity of the airframe and components, as well as an unrecognized failure of the manual pitch trim. These conditions, if not addressed, could result in loss of airplane control.

(f) Actions and Compliance

(1) Before further flight, unless already done, revise the ALS of the existing AMM or instructions for continued airworthiness (ICA) for your airplane by incorporating the following documents.

(i) Pilatus PC-24 Aircraft Maintenance Manual, Airworthiness Limitations, AMM data module PC24-A-A04-00-0000-00A-040A-A, Issue 008, Revision 00, dated May 26, 2020.

(ii) Pilatus PC-24 Aircraft Maintenance Manual, Mandatory structural inspection items, data module PC24-A-A04-20-0000-00A-000A-A, Issue 005, Revision 00, dated May 26, 2020.

(iii) Pilatus PC-24 Aircraft Maintenance Manual, Certification maintenance requirements, data module PC24-A-A04-30-0000-00A-000A-A, Issue 007, Revision 00, dated October 14, 2019.

(iv) Pilatus PC-24 Aircraft Maintenance Manual, Horizontal stabilizer primary trim system secondary power source—Operation test, data module PC24-A-E27-40-0000-01A-320A-A, Issue 007, Revision 00, dated September 25, 2019. Your ALS must require this procedure for task number AL-27-40-022 in the certification maintenance requirements.

Note 1 to paragraph (f)(1) of this AD: Pilatus PC-24 Aircraft Maintenance Manual, Airworthiness Limitations, AMM data module PC24-A-A04-00-0000-00A-040A-A, Issue 008, Revision 00, dated May 26, 2020, is the parent data module for chapter 4 of the PC-24 AMM and consists of four subsections (sub-data modules). The parent data module and four sub-data modules comprise the complete ALS of the PC-24 Aircraft Maintenance Manual. Incorporating Pilatus PC-24 Aircraft Maintenance Manual, Airworthiness Limitations, AMM data module PC24-A-A04-00-0000-00A-040A-A, Issue 008 Revision 00, dated May 26, 2020, and all four subsections listed in Section 1 General, is acceptable, but not required, for compliance with this AD.

(2) As of the effective date of this AD, except as provided in paragraph (g) of this AD, no alternative replacement times, inspection intervals, or tasks may be approved for the affected parts.

(3) The actions required by paragraph (f)(1) of this AD may be performed by the owner/operator (pilot) holding at least a private pilot certificate and must be entered into the aircraft records showing compliance with this AD in accordance with 14 CFR 43.9(a)(1) through (4), and 14 CFR 91.417(a)(2)(v). The record must be maintained as required by 14 CFR 91.417, 121.380, or 135.439.

(g) Alternative Methods of Compliance (AMOCs)

The Manager, International Validation Branch, FAA, has the authority to approve AMOCs for this AD, if requested using the procedures found in 14 CFR 39.19. Send information to Doug Rudolph, Aerospace Engineer, FAA, General Aviation & Rotorcraft Section, International Validation Branch, 901 Locust, Room 301, Kansas City, Missouri 64106; phone: (816) 329-4059; fax: (816) 329-4090; email: doug.rudolph@faa.gov. Before using any approved AMOC on any airplane to which the AMOC applies, notify your appropriate principal inspector (PI) in the FAA Flight Standards District Office (FSDO), or lacking a PI, your local FSDO. Before using any approved AMOC, notify your appropriate principal inspector, or lacking a principal inspector, the manager of the local flight standards district office/certificate holding district office.

(h) Related Information

Refer to MCAI European Union Aviation Safety Agency AD No. 2020-0202, dated September 22, 2020 for related information. You may examine the MCAI at https://www.regulations.gov by searching for and locating Docket No. FAA-2020-0812. For service information related to this AD, contact Pilatus Aircraft Ltd., Customer Support General Aviation, CH-6371 Stans, Switzerland; phone: +41 848 24 7 365; email: techsupport.ch@pilatus-aircraft.com; website: https://www.pilatus-aircraft.com. You may review this referenced service information at the FAA, Airworthiness Products Section, Technical Innovation Policy Branch, 901 Locust, Kansas City, Missouri 64106. For information on the availability of this material at the FAA, call (816) 329-4148.

Issued on January 14, 2021.
Lance T. Gant,
Director, Compliance & Airworthiness Division, Aircraft Certification Service.

[FR Doc. 2021-01625 Filed 3-10-21; 8:45 am]

BILLING CODE 4910-13-P